DEPARTMENT OF COMMERCE

National Oceanic and Atmospheric Administration

[RTID 0648-XA689]

Interagency Working Group on Illegal, Unreported, and Unregulated Fishing; Request for Comments

AGENCY: National Marine Fisheries Service (NMFS), National Oceanic and Atmospheric Administration (NOAA), Commerce.

ACTION: Notice; request for comments.

SUMMARY: NMFS is seeking public comments on the Work Plan of the Interagency Working Group on Illegal, Unreported, and Unregulated Fishing. This Interagency Working Group was established under the Maritime Security and Fisheries Enforcement Act.

DATES: Information should be received on or before January 15, 2021.

ADDRESSES: Information may be submitted electronically to iuu.fishing@noaa.gov.

FOR FURTHER INFORMATION CONTACT: Mi Ae Kim, phone 301-427-8365 or email mi.ae.kim@noaa.gov.

SUPPLEMENTARY INFORMATION: The Maritime Security and Fisheries Enforcement Act (Maritime SAFE Act) became law on December 20, 2019. The overarching purpose of the Maritime SAFE Act is to support a whole-of-government approach across the Federal government to counter illegal, unreported, and unregulated (IUU) fishing and related threats to maritime security. It seeks to achieve this through a number of means, including: Improve data sharing that enhances surveillance, enforcement, and prosecution against IUU fishing and related activities; support coordination and collaboration to counter IUU fishing within priority regions; and increase and improve global transparency and traceability across the seafood supply chain to deter IUU fishing and strengthen fisheries management and food security; improve global enforcement operations against IUU fishing; and prevent the use of IUU fishing as a financing source for transnational organized crime groups.

Part II of the Maritime SAFE Act calls for the establishment of the Interagency Working Group on IUU Fishing (Working Group), specifying the chair and agency membership in the Working Group, as well as the Working Group's responsibilities. This Working Group met for the first time in June 2020. NOAA is chair of this Working Group for its first three years, joined by the U.S. Department of State and U.S. Coast Guard as deputy chairs.

The Working Group has developed its Work Plan, a living document that will serve as the basis for a 5-year strategic plan that is due to Congress by the end of calendar year 2021. In this Work Plan, the Working Group identified ongoing existing activities, as well as new lines of effort, that comprise the initial focus of Federal government actions under the purview of the Working Group. Many of the new activities proposed in the Work Plan emphasize the use of maritime intelligence and the involvement of military departments to support efforts to combat IUU fishing. The Work Plan can be found here: https://www.fisheries.noaa.gov/national/maritime-safe-act-interagency-working-group-iuu-fishing.

The Working Group is exploring potential ways in which the government and private sector stakeholders can work together to combat IUU fishing and enhance maritime security. We are interested to hear from the seafood industry, non-governmental organizations, and other stakeholders that are engaged in efforts to combat IUU fishing. We welcome comments in relation to the Work Plan, particularly any responses to the following questions:

• Which activities in the Work Plan are connected to the expertise or interests of your organization related to combating IUU fishing?

• What kinds of distinctive capabilities or capacities could your organization bring to the activities in the Work Plan?

• Which specific activities could serve as the basis for a partnership between your organization and particular Federal agencies?

• Are there specific geographic regions or seafood industry sectors (e.g., harvesting, processing, or trade) where your organization focuses efforts to build capacity in combating IUU fishing that could be tied to activities in the Work Plan?

• Which elements in the Work Plan do you see as priorities to include in the 5-year Strategic Plan of the Working Group?

Dated: December 11, 2020.
Alexa Cole,
Director, Office of International Affairs and Seafood Inspection, National Marine Fisheries Service.

[FR Doc. 2020-27695 Filed 12-15-20; 8:45 am]

BILLING CODE 3510-22-P